DEPARTMENT OF TRANSPORTATION

Federal Aviation Administration

[Policy Statement No. ANM-03-115-04]

Exit Bands

AGENCY: Federal Aviation Administration (FAA), DOT.

ACTION: Notice of proposed policy; request for comments.

SUMMARY: The Federal Aviation Administration (FAA) announces the availability of proposed policy on colored exit bands required by § 25.811(f)(1) and (2).

DATES: Send your comments on or before March 31, 2003.

ADDRESSES: Address your comments to the individual identified under FOR FURTHER INFORMATION CONTACT.

FOR FURTHER INFORMATION CONTACT: Michael T. Thompson, Federal Aviation Administration, Transport Airplane Directorate, Transport Standards Staff, Airframe and Cabin Safety Branch, ANM-115, 1601 Lind Avenue, SW., Renton, WA 98055-4056; telephone (425) 227-1157; fax (425) 227-1149; e-mail: michael.t.thompson@faa.gov.

SUPPLEMENTARY INFORMATION:

Comments Invited

The proposed policy is available on the Internet at the following address: http://www.faa.gov/certification/aircraft/anminfo/devpaper.cfm. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments. “Comments to Policy Statement No. ANM-03-115-04.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The proposed policy will further simplify the certification process pertaining to installation of the required 2-inch colored band outlining the exits on transport category airplanes. These bands are necessary so that rescue personnel can readily recognize exits in the side of the fuselage.

Issued in Renton, Washington, on February 13, 2003.
Ali Bahrami,
Acting Manager, Transport Airplane Directorate, Aircraft Certification Service.

[FR Doc. 03-4645 Filed 2-26-03; 8:45 am]

BILLING CODE 4910-13-M